DEPARTMENT OF ENERGY

Federal Energy Regulatory Commission

[Docket No. AD21-15-000]

Joint Federal-State Task Force on Electric Transmission; Notice Inviting Post-Meeting Comments

On November 10, 2021, the Joint Federal-State Task Force on Electric Transmission convened for its first public meeting.

All interested persons are invited to file post-meeting comments to address issues raised during the meeting and identified in the Agenda issued October 27, 2021. Comments must be submitted on or before 30 days from the date of this Notice.

Comments may be filed electronically via the internet.¹ Instructions are available on the Commission's website http://www.ferc.gov/docs-filing/efiling.asp. For assistance, please contact FERC Online Support at FERCOnlineSupport@ferc.gov or toll free at 1-866-208-3676, or for TTY, (202) 502-8659. Although the Commission strongly encourages electronic filing, documents may also be paper-filed. To paper-file, submissions sent via the U.S. Postal Service must be addressed to: Federal Energy Regulatory Commission, Office of the Secretary, 888 First Street NE, Washington, DC 20426. Submissions sent via any other carrier must be addressed to: Federal Energy Regulatory Commission, Office of the Secretary, 12225 Wilkins Avenue, Rockville, Maryland 20852.

¹ See 18 CFR 385.2001(a)(1)(iii) (2020).

For more information about this Notice, please contact:

Michael Cackoski (Technical Information), Office of Energy Policy and Innovation, (202) 502-6169, Michael.Cackoski@ferc.gov

Gretchen Kershaw (Legal Information), Office of the General Counsel, (202) 502-8213, Gretchen.Kershaw@ferc.gov

Dated: November 22, 2021.
Kimberly D. Bose,
Secretary.

[FR Doc. 2021-25939 Filed 11-26-21; 8:45 am]

BILLING CODE 6717-01-P